DEPARTMENT OF HEALTH AND HUMAN SERVICES

Administration for Community Living

Agency Information Collection Activities; Proposed Collection; Public Comment Request; Proposed Extension With Modifications of a Currently Approved Collection; National Survey of Older Americans Act Participants; Correction

AGENCY: Administration for Community Living, HHS.

ACTION: Notice of correction.

SUMMARY: The Administration for Community Living published a proposed collection of information document in the Federal Register on March 13, 2017. (82 FR 13457 and 13458) The document title and summary incorrectly stated that no changes were proposed to the currently approved collection.

FOR FURTHER INFORMATION CONTACT: Heather Menne at 202-795-7733 or Heather.Menne@acl.hhs.gov.

Corrections

The Title of the Notice should read: Agency Information Collection Activities; Proposed Collection; Public Comment Request; Proposed Extension with Modifications of a Currently Approved Collection; National Survey of Older Americans Act Participants. Under the SUMMARY section, page 13457, column two, correct the last sentence in the section to read: “This notice solicits comments on a proposed extension with modifications to a currently approved collection.”

Dated: March 20, 2017.
Daniel P. Berger,
Acting Administrator and Assistant Secretary for Aging.

[FR Doc. 2017-05827 Filed 3-23-17; 8:45 am]

BILLING CODE 4154-01-P